DEPARTMENT OF COMMERCE

International Trade Administration

[A-570-029]

Certain Cold-Rolled Steel Flat Products From the People's Republic of China; Rescission of Antidumping Duty Administrative Review; 2018-2019

AGENCY: Enforcement and Compliance, International Trade Administration, Department of Commerce.

SUMMARY: The Department of Commerce (Commerce) is rescinding the administrative review of the antidumping duty (AD) order on certain cold-rolled steel flat products (cold-rolled steel) from the People's Republic of China (China) for the period of review (POR) July 1, 2018 through June 30, 2019, based on the timely withdrawal of the requests for review.

DATES: Applicable January 14, 2020.

FOR FURTHER INFORMATION CONTACT: Fred Baker, AD/CVD Operations, Office VI, Enforcement and Compliance, International Trade Administration, U.S. Department of Commerce, 1401 Constitution Avenue NW, Washington, DC 20230; telephone: (202) 482-2924.

SUPPLEMENTARY INFORMATION:

Background

On July 1, 2019, Commerce published a notice of opportunity to request an administrative review of the AD order on cold-rolled steel from China for the POR of July 1, 2018 through June 30, 2019.¹ On July 31, 2019, Commerce received a timely filed request from ArcelorMittal USA LLC, California Steel Industries, Inc., Nucor Corporation, Steel Dynamics, Inc., and United States Steel Corporation (the petitioners) ² for an administrative review of China Steel Sumikin JSC, Dai Thien Loc Corp., Hoa Phat Steel Pipe, Hoa Sen Group, Maruichi Sun Steel Corporation, Nam Kim Steel, NS BlueScope, POSCO Vietnam, Southern Steel Sheet Co., Ton Dong A Corp., Vina One, and VNSteel—Phu My Flat Steel. On July 31, 2019, Commerce also received a request from Mitsui & Co., (U.S.A.) Inc. (Mitsui), for an administrative review of Hoa Sen Group and Ton Dong A Corporation.³ These requests were in accordance with section 751(a) of the Tariff Act of 1930, as amended (the Act), and 19 CFR 351.213(b). Commerce received no other requests for administrative review.

¹ See Antidumping or Countervailing Duty Order, Finding, or Suspended Investigation; Opportunity to Request Administrative Review, 84 FR 31295 (July 1, 2019).

² See Petitioners' Letter, “Cold-Rolled Steel Flat Products from the People's Republic of China: Request for Administrative Review of Antidumping Duty Order,” dated July 31, 2019.

³ See Mitsui Letter, “Certain Cold-Rolled Steel Flat Products from China: Request for Administrative Review,” dated July 31, 2019.

On September 9, 2019, pursuant to these requests, and in accordance with 19 CFR 351.221(c)(1)(i), Commerce published a notice initiating an administrative review of the antidumping duty order on cold-rolled steel from China.⁴ On December 4, 2019, the petitioners withdrew their request for an administrative review of all companies on which they had requested a review.⁵ On December 6, 2019, Mitsui withdrew its request for an administrative review of the two companies on which they had requested a review.⁶

⁴ See Initiation of Antidumping and Countervailing Duty Administrative Reviews, 84 FR 47242 (September 9, 2019).

⁵ See Petitioners' Letter, “Certain Cold-Rolled Steel Flat Products from the People's Republic of China: Withdrawal of Request for Administrative Review of Antidumping Duty Order,” dated December 4, 2019.

⁶ See Mitsui's Letter, “Certain Cold-Rolled Steel Flat Products from the People's Republic of China; Withdrawal of Request of Antidumping Duty Order,” dated December 6, 2019.

Rescission of Review

Pursuant to 19 CFR 351.213(d)(1), Commerce will rescind an administrative review, in whole or in part, if a party that requested a review withdraws the request within 90 days of the publication date of the notice of initiation of the requested review. The petitioners and Mitsui withdrew their requests within 90 days of the publication date of the notice of initiation. No other parties requested an administrative review of the order. Therefore, in accordance with 19 CFR 351.213(d)(1), we are rescinding this review in its entirety.

Assessment

Commerce intends to instruct U.S. Customs and Border Protection (CBP) to assess antidumping duties on all appropriate entries of cold-rolled steel from China. Antidumping duties shall be assessed at rates equal to the cash deposit of estimated antidumping duties required at the time of entry, or withdrawal from warehouse, for consumption in accordance with 19 CFR 351.212(c)(1)(i). Commerce intends to issue appropriate assessment instructions to CBP 15 days after the date of publication of this notice in the Federal Register.

Notification to Importers

This notice serves as the only reminder to importers of their responsibility, under 19 CFR 351.402(f)(2), to file a certificate regarding the reimbursement of antidumping duties prior to liquidation of the relevant entries during this review period. Failure to comply with this requirement may result in the presumption that reimbursement of antidumping duties occurred and the subsequent assessment of double antidumping duties.

Notification Regarding Administrative Protective Orders

This notice also serves as a reminder to all parties subject to administrative protective order (APO) of their responsibility concerning the disposition of proprietary information disclosed under APO in accordance with 19 CFR 351.305, which continues to govern business proprietary information. Timely written notification of the return/destruction of APO materials or conversion to judicial protective order is hereby requested. Failure to comply with the regulations and terms of an APO is a violation which is subject to sanction.

This notice is issued and published in accordance with sections 751(a)(1) and 777(i)(1) of the Act, and 19 CFR 351.213(d)(4).

Dated: January 8, 2020.
James Maeder,
Deputy Assistant Secretary for Antidumping and Countervailing Duty Operations.

[FR Doc. 2020-00414 Filed 1-13-20; 8:45 am]

BILLING CODE 3510-DS-P